DEPARTMENT OF THE INTERIOR

Bureau of Indian Affairs

Big Valley Rancheria Liquor Control Ordinance

AGENCY: Bureau of Indian Affairs, Interior.

ACTION: Notice.

SUMMARY: This notice publishes the Big Valley Rancheria Liquor Control Ordinance. The ordinance regulates the control of, the possession of, and the sale of liquor on the Big Valley Rancheria trust lands, and is in conformity with the laws of the States of California, where applicable and necessary. Although the Ordinance was adopted on July 22, 2000, it does not become effective until published in the Federal Register because the failure to comply with the ordinance may result in criminal charges.

DATES: This ordinance is effective on January 25, 2001.

FOR FURTHER INFORMATION CONTACT: Kaye Armstrong, Office of Tribal Services, 1849 C Street, NW., MS 4631-MIB, Washington, DC 20240-4001; telephone (202) 208-4400.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transaction in Indian country. The Big Valley Rancheria Liquor Control Ordinance, Resolution No. 07-22-00-08, was duly adopted by the General Community Council of the Big Valley Band of Pomo Indians on July 22, 2000. The Big Valley Rancheria, in furtherance of its economic and social goals, has taken positive steps to regulate retail sales of alcohol and use revenues to combat alcohol abuse and its debilitating effects among individuals and family members within the Big Valley Rancheria community.

This notice is being published in accordance with the authority delegated by the Secretary of the Interior to the Assistant Secretary—Indian Affairs by 209 Departmental Manual 8.

I certify that by Resolution No. 07-22-00-08, the Big Valley Rancheria Liquor Control Ordinance was duly adopted by the General Community Council of the Big Valley Band of Pomo Indians on July 22, 2000.

Dated: January 16, 2001.
Michael J. Anderson,
Acting Assistant Secretary—Indian Affairs.

The Big Valley Rancheria Liquor Control Ordinance, Resolution No. 07-22-00-08, reads as follows:

General Community Council Resolution No. 07-22-00-08

Whereas, pursuant to applicable Federal law (the Act of August 15, 1953, Pub. L. 83-277, 67 Stat. 588, 18 U.S.C. § 1161) in order for sales, possession and introduction of liquor within Indian Country to be lawful, the Tribe must enact a liquor control ordinance, and said ordinance must be approved by the Secretary of the Interior and published in the Federal Register; and

Whereas, the General Community Council of the Big Valley Tribe wishes to permit tribally owned and operated enterprises within the Big Valley Rancheria to sell alcohol in order to preserve the economic viability of said enterprises and to provide additional income to support provision of tribal government services to tribal members; and

Whereas, the Big Valley Liquor Control Ordinance provides for sales, introduction and possession of alcohol in conformity with the laws of the State of California.

It is therefore resolved, That the Big Valley Liquor Control Ordinance is hereby enacted as a law of the Big Valley Rancheria.

Ordinance # 07-22-00-08

Liquor Control Ordinance

Be it enacted by the General Community Council of the Big Valley Band of Pomo Indians, as follows:

Article 1. Name. This ordinance shall be known as the Big Valley Liquor Control Ordinance.

Article 2. Authority. This ordinance is enacted pursuant to the Act of August 15, 1953, (Pub. L. 83-277, 67 Stat. 588, 18 U.S.C. § 1161) and Article IV of the Constitution and Bylaws of the Big Valley Tribe.

Article 3. Purpose. The purpose of this ordinance is to regulate and control the possession and sale of liquor on the Big Valley Rancheria, and to permit alcohol sales by tribally owned and operated enterprises, and at tribally approved special events, for the purpose of the economic development of the Big Valley Tribe. The enactment of a tribal ordinance governing liquor possession and sales on the Big Valley Rancheria will increase the ability of tribal government to control Rancheria liquor distribution and possession, and will provide an important source of revenue for the continued operation and strengthening of the tribal government, the economic viability of tribal enterprises, and the delivery of tribal government services. This Liquor Control Ordinance is in conformity with the laws of the State of California as required by 18 U.S.C. 1161, and with all applicable federal laws.

Article 4. Effective Date. This ordinance shall be effective as of the date of its publication in the Federal Register.

Article 5. Possession of Alcohol. The introduction or possession of alcoholic beverages shall be lawful within the exterior boundaries of the Big Valley Rancheria; Provided, That such introduction or possession is in conformity with the laws of the State of California.

Article 6. Sales of Alcohol.

(a) The sale of alcoholic beverages by business enterprises owned by and subject to the control of the Big Valley Tribe shall be lawful within the exterior boundaries of the Big Valley Rancheria; Provided, That such sales are in conformity with the laws of the State of California.

(b) The sale of alcoholic beverages by the drink at special events authorized by the Big Valley Tribe shall be lawful within the exterior boundaries of the Big Valley Rancheria; Provided, That such sales are in conformity with the laws of the State of California and with prior approval by the Big Valley Tribe.

Article 7. Age Limits. The drinking age within the Big Valley Rancheria shall be the same as that of the State of California, which is currently 21 years. No person under the age of 21 years shall purchase, possess or consume any alcoholic beverage. At such time, if any, as California Business and Profession Code § 25658, which sets the drinking age for the State of California, is repealed or amended to raise or lower the drinking age within California, this Article shall automatically become null and void, and the Business Committee shall be empowered to amend this Article to match the age limit imposed by state law, such amendment to become effective upon publication in the Federal Register by the Secretary of the Interior.

Article 8. Civil Penalties. The Big Valley Tribe, through its Business Committee and duly authorized security personnel, shall have authority to enforce this ordinance by confiscating any liquor sold, possessed or introduced in violation hereof. The Business Committee shall be empowered to sell such confiscated liquor for the benefit of the Big Valley Tribe and to develop and approve such regulations as may become necessary for enforcement of this ordinance.

Article 9. Prior Inconsistent Enactments. Any prior tribal laws, resolutions or ordinances which are inconsistent with this ordinance are hereby repealed to the extent they are inconsistent with this ordinance.

Article 10. Sovereign Immunity. Nothing contained in this ordinance is intended to, nor does in any way, limit, alter, restrict, or waive the sovereign immunity of the Big Valley Tribe or any of its agencies from unconsented suit or action of any kind.

Article 11. Severability. If any provision of this ordinance is found by any agency or court of competent jurisdiction to be unenforceable, the remaining provisions shall be unaffected thereby.

Article 12. Amendment. This ordinance may be amended by majority vote of the General Council of the Big Valley Tribe at a duly noticed General Community Council meeting, such amendment to become effective upon publication in the Federal Register by the Secretary of the Interior.

[FR Doc. 01-2223 Filed 1-24-01; 8:45 am]

BILLING CODE 4310-02-P